DEPARTMENT OF ENERGY

[GDO Docket No. EA-475-A]

Application for Renewal of Authorization To Export Electric Energy; Idaho Power Company

AGENCY: Grid Deployment Office, Department of Energy.

ACTION: Notice of application.

SUMMARY: Idaho Power Company (Idaho Power or Applicant) has applied for renewed authorization to transmit electric energy from the United States to Canada pursuant to the Federal Power Act.

DATES: Comments, protests, or motions to intervene must be submitted on or before September 11, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Delegation Order No. S1-DEL-S3-2023 and Redelegation Order No. S3-DEL-GD1-2023.

On July 18, 2019, DOE issued Order No. EA-475 authorizing Idaho Power to transmit electric energy from the United States to Canada for a term of five years. On July 1, 2024, Idaho power filed an Application (Application or App.) for renewal of its export authority for a five-year term. App. at 1.

According to the Application, Idaho Power is “a regulated electrical power utility engaged in the business of generating, purchasing, transmitting, and distributing electrical energy.” Id. at 2. The Applicant states that it is incorporated under the laws of Idaho, a wholly owned subsidiary of IDACORP, Inc., and authorized to operate in Idaho and Oregon. Id.

The Applicant states that it “buys and sells surplus energy pursuant to voluntary bilateral contracts with electric utilities and other suppliers within the United States.” Id. Additionally, the Applicant represents that it “will export excess energy to Canada by making all necessary commercial arrangements, obtaining sufficient transmission capacity to wheel the exported energy to the border system, and coordinating with all parties as required by applicable market rules and the reliability standards implemented by North American Electric Reliability Corporation (NERC).” Id. at 3. Idaho Power further states that it “agrees to abide by the export limits on any border facility to which it transports the excess energy.” Id. Idaho Power asserts that its proposed exports “will not impair its ability to meet native load demands, regional load obligations, or prospective wholesale power-supply responsibilities” or “affect its ability to maintain appropriate reserve levels of energy.” App. at 3. Accordingly, Idaho Power states that its “export of power will not impair the sufficiency of the Electric power supply in the United States or the reliability of the grid.” Id.

The existing international transmission facilities to be utilized by the Applicant have been previously authorized by Presidential permits issued pursuant to Executive Order 10485, as amended, and are appropriate for open access transmission by third parties. See id. at Exhibit C.

Procedural Matters: Any person desiring to be heard in this proceeding should file a comment or protest to the Application at the email address provided previously. Protests should be filed in accordance with Rule 211 of FERC's Rules of Practice and Procedure (18 CFR 385.211). Any person desiring to become a party to this proceeding should file a motion to intervene at the previously provided email address in accordance with FERC Rule 214 (18 CFR 385.214).

Comments and other filings concerning Idaho Power's Application should be clearly marked with GDO Docket No. EA-475-A. Additional copies are to be provided directly to Lisa O'Hara, Idaho Power Company, 1221 West Idaho Street, Boise, Idaho 83702, lohara@idahopower.com, and Jaren Wieland, 512 W Idaho Street, Suite 103, Boise, Idaho 83702, jaren.wieland@mooneywieland.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on August 2, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 7, 2024.
Treena V. Garrett,
Federal Register Liaison Officer, U.S. Department of Energy.

[FR Doc. 2024-17885 Filed 8-9-24; 8:45 am]

BILLING CODE 6450-01-P